DEPARTMENT OF THE INTERIOR

National Park Service

Notice of Inventory Completion for Native American Human Remains and Associated Funerary Objects in the Possession of the Kansas State Historical Society, Topeka, KS

AGENCY: National Park Service, Interior.

ACTION: Notice.

Notice is hereby given in accordance with provisions of the Native American Graves Protection and Repatriation Act (NAGPRA), 43 CFR 10.9, of the completion of an inventory of human remains and associated funerary objects in the possession of the Kansas State Historical Society, Topeka, KS.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by Kansas State Historical Society professional staff in consultation with representatives of the Pawnee Nation of Oklahoma.

In 1975, human remains representing four individuals were donated to the Kansas State Historical Society by Jerry Bobey who reportedly excavated these human remains from a low rock-filled earthen mound at the Bobey site, 14RP325, on a bluff above Salt Creek in Republic County, KS. No known individuals were identified. The 68 associated funerary objects are pottery shards, a pipebowl section, chipped stone tools and debris, and 12 pieces of limestone.

Based on osteological analysis, the reported archeological context, and the associated funerary objects, these individuals have been identified as Native American. Based on geographic location and material culture, particularly pottery characteristics, the Bobey site has been identified as a manifestation of the Central Plains Tradition (C.E. 900-1400). Based on temporal position and continuities of material culture, the Central Plains Tradition has been identified as ancestral to the present-day Pawnee Nation of Oklahoma.

Based on the above-mentioned information, officials of the Kansas State Historical Society have determined that, pursuant to 43 CFR 10.2(d)(1), the human remains listed above represent the physical remains of four individuals of Native American ancestry. Officials of the Kansas State Historical Society also have determined that, pursuant to 43 CFR 10.2(d)(2), the 68 objects listed above are reasonably believed to have been placed with or near individual human remains at the time of death or later as part of the death rite or ceremony. Lastly, officials of the Kansas State Historical Society have determined that, pursuant to 43 CFR 10.2(e), there is a relationship of shared group identity that can be reasonably traced between these Native American human remains and associated funerary objects and the Pawnee Nation of Oklahoma. This notice has been sent to officials of the Pawnee Nation of Oklahoma. Representatives of any other Indian tribe that believes itself to be culturally affiliated with these human remains and associated funerary objects should contact Randall M. Thies, Archaeologist, Kansas State Historical Society, 6425 Southwest Sixth Avenue, Topeka, KS 66615-1099, telephone (785) 272-8681, extension 267, before June 13, 2001. Repatriation of the human remains and associated funerary objects to the Pawnee Nation of Oklahoma may begin after that date if no additional claimants come forward.

Dated: April 20, 2001.
John Robbins,
Assistant Director, Cultural Resources Stewardship and Partnerships.

[FR Doc. 01-12018 Filed 5-11-01; 8:45 am]

BILLING CODE 4310-70-F